SMALL BUSINESS ADMINISTRATION

Data Collection Available for Public Comments

ACTION: 60 Day notice and request for comments.

SUMMARY: In accordance with the Paperwork Reduction Act of 1995, this notice announces the Small Business Administration's intentions to request approval on a new and/or currently approved information collection.

DATES: Submit comments on or before October 7, 2013.

ADDRESSES: Send all comments regarding whether this information collection is necessary for the proper performance of the function of the agency, whether the burden estimates are accurate, and if there are ways to minimize the estimated burden and enhance the quality of the collection, to Dean Koopel, Assistant Administrator, Office of Policy and Planning, Small Business Administration, 409 3rd Street SW. 8th Floor, Washington DC 20416.

FOR FURTHER INFORMATION CONTACT: Dean Koppel, Assistant Administrator, 202-205-7322 dean.koppel@sba.gov Curtis B. Rich, Management Analyst, 202-205-7030 curtis.rich@sba.gov.

Title: “Certification for the Women-Owned Small Business Federal Contract Program”.

Abstract: The Small Business Act states that a women-owned small (WOSB) or an economically disadvantaged women-owned small business (EDWOSB) must (1) Be a Federal agency, a State government, or a national certifying entity as a WOSB. or, (2) certify to the contracting office that it is a WOSB and provide adequate documentation to support such certification. These documents will be used by the SBA, contracting offices and third party certifies to determine program eligibility and compliance.

Description of Respondents: Women Owned Small Businesses.

Form Number's: 2413, 2414.

Annual Responses: 12,000.

Annual Burden: 24,400.

Curtis Rich,
Management Analyst.

[FR Doc. 2013-18905 Filed 8-5-13; 8:45 am]

BILLING CODE 8025-01-P